DEPARTMENT OF TRANSPORTATION

Federal Transit Administration

FY15 Discretionary Funding Opportunity: Low or No Emission Vehicle Deployment Program (LoNo) Program

AGENCY: Federal Transit Administration (FTA), DOT.

ACTION: Notice of Funding Availability (NOFA) and for Request for Proposals (RFP).

SUMMARY: The Federal Transit Administration (FTA) announces the availability of $22.5 million of Fiscal Year (FY) 2015 funds for the deployment of low or no emission transit buses. Of that amount, a minimum of $3.0 million is available for supporting facilities and related equipment. If additional funding is appropriated for this program in FY 2016, FTA may, at its discretion, also make those funds available under this announcement.

DATES: Complete proposals must be submitted electronically through the grants.gov “Apply” function by November 23, 2015. Prospective applicants should initiate the process by registering on the GRANTS.GOV Web site promptly to ensure completion of the application process before the submission deadline. Instructions for applying can be found on FTA's Web site at http://www.fta.dot.gov/grants/13077.html and in the “find” module of grants.gov. Mail and fax submissions will not be accepted.

FOR FURTHER INFORMATION CONTACT: Sean Ricketson, FTA Office of Research Demonstration and Innovation, 202-366-6678 or sean.ricketson@dot.gov.

SUPPLEMENTARY INFORMATION:

Table of Contents

A. Program Description

B. Federal Award Information

C. Eligibility Information

D. Application and Submission Information

E. Application Review

F. Federal Award Administration

G. Federal Awarding Agency Contacts

A. Program Description

The Low and No Emission Vehicle Deployment (LoNo) Program provides funding for transit agencies for capital acquisitions and leases of zero-emission and low-emission transit buses, including acquisition, construction, and leasing of required supporting facilities such as recharging, refueling, and maintenance facilities.

The main purpose of the LoNo Program is to deploy the cleanest and most energy efficient U.S.-made transit buses that have been largely proven in testing and demonstrations but are not yet widely deployed in transit fleets. The LoNo Program is a capital program focused on deploying new production vehicles that are market-ready or near market-ready. It is not a program for designing and developing prototypes. The program gives priority consideration to the deployment of buses with the lowest energy consumption and least harmful emissions, including direct carbon emissions.

B. Federal Award Information

The Moving Ahead for Progress in the 21st Century Act (MAP-21), Public Law 112-141, July 6, 2012, amended 49 U.S.C. 5312 to add a new paragraph (d)(5) authorizing FTA to make grants to finance eligible projects under the “Low or No Emission Vehicle Deployment Program” (LoNo Program).

The Consolidated and Further Continuing Appropriations Act, 2015 (FY 2015 Appropriations) Public Law 113-235, December 16, 2014, has made available $22.5 million in FY 2015 to carry out the LoNo Program. Of that amount, a minimum of $3.0 million is available for supporting facilities and related equipment. Given that projects must be competitively selected pursuant to 49 U.S.C. 5312(d)(5)(E), if additional funding is appropriated for this program in FY 2016, FTA may, at its discretion, apply those funds to either scale up selections made under this announcement, or to fund meritorious proposals that were not selected for lack of FY 2015 funding.

C. Eligibility Information

1. Eligible Applicants

The FTA will consider projects from eligible applicants located in eligible areas, as defined in 49 U.S.C 5312(d). Eligible areas are limited to non-attainment and maintenance areas. Specifically, an eligible area is defined as an area that is:

(i) Designated as a nonattainment area for ozone or carbon monoxide under section 107(d) of the Clean Air Act (42 U.S.C. 7407(d)); or

(ii) A maintenance area, as defined in section 5303, for ozone or carbon monoxide.

Eligible applicants and recipients under this program are limited to designated recipients in eligible areas over 200,000 in population and State Departments of Transportation (DOTs) for eligible areas under 200,000 in population. State DOTs must apply for and administer the proposal and if selected, subsequent grant, for projects located in eligible areas under 200,000 in population.

For more information about Designated Recipients, please see FTA Circular 9030.1E, “Urbanized Area Formula Program: Program Guidance and Application Instructions”, January 16, 2014, Chapter II, which can be found on FTA's Web site in its Law Library. For information about non-attainment and maintenance areas, please visit the Environmental Protection Administration's Greenbook, at http://www.epa.gov/airquality/greenbook/.

Eligible applicants may apply on behalf of eligible subrecipients, to include other public transportation providers, tribes, and a project team member identified in the proposal and deemed a “Key Party” by FTA. Project teams may include consultants, manufacturers, vendors, systems integrators and facilities providers. Tribes and other FTA direct recipients should work with State DOTs or eligible designated recipients in their area to apply on their behalf.

2. Cost Sharing or Matching

The FTA has determined that all eligible expenses under this program are attributable to compliance with the Clean Air Act. Therefore under the provisions of 49 U.S.C. 5323(i) the Federal Government's participation in the costs of leasing or acquiring a transit bus financed under the LoNo Program is limited to 85 percent of the total transit bus cost. The proposer may seek a lower Federal contribution.

Further, the Federal Government's participation in the cost of leasing or acquiring transit bus-related equipment and facilities under the LoNo Program is limited to 90 percent of the net project cost of the equipment or facilities attributable to compliance with the Clean Air Act.

The Federal Share is limited to 80 percent for the cost of equipment and facilities not attributable to compliance with the Clean Air Act. Again, the proposer may seek a lower Federal contribution.

Therefore, at a minimum, the proposer must provide at least 15 percent of the cost of all transit bus acquisitions and 10 percent of the cost for all related equipment and facilities.

3. Eligible Projects

The following projects are eligible for funding, in accordance with section 5312(d)(5)(A)(ii):

(i) Acquiring or leasing low or no emission transit buses;

(ii) Constructing or leasing facilities and related equipment for low or no emission transit buses;

(iii) Constructing new public transportation facilities to accommodate low or no emission transit buses; or,

(iv) Rehabilitating or improving existing public transportation facilities to accommodate low or no emission transit buses.

4. Eligible Vehicles

Proposals for bus acquisitions should result in the deployment of at least five (5) new transit buses per location. Proposals for supporting facilities should support at least five (5) buses. Buses must be largely identical. To be eligible, vehicles must be production transit buses used to provide public transportation and meet either the zero-emission bus, or the low emission bus definition below.

For the purposes of this solicitation, a zero-emission transit bus is defined as a bus that produces no direct carbon emissions and no particulate matter emissions under any and all possible operational modes and conditions. A hydrogen fuel-cell bus qualifies as a zero-emission bus. A battery-electric bus qualifies as a zero-emission transit bus. A zero-emission bus and a no emission bus are the same.

For the purposes of this solicitation, a low emission bus is defined as any transit bus that is powered by an engine that produces lower non-methane hydrocarbons (NMHC) and oxides of nitrogen (NOX) than are legally permitted under EPA's engine standards at 49 CFR part 86.

All transit buses proposed for deployment under the LoNo Program must complete current FTA bus testing for production transit buses pursuant to 49 U.S.C. 5318. The FTA will only evaluate proposals for production transit buses that have either completed testing or will be tested prior to deployment. The LoNo Program is not a platform for the development of prototypes.

D. Application and Submission Information

1. Address To Request Application Package

A complete proposal submission will consist of at least two files: (1) The SF424 Mandatory form (downloaded from GRANTS.GOV) and (2) the Applicant and Proposal Profile supplemental form for LoNo funding (Supplemental Form) found on grants.gov and the FTA Web site by clicking (or copying and pasting) the LoNo Program link at http://www.fta.dot.gov/grants/13077.html. The Supplemental Form provides guidance and a consistent format for proposers to respond to the criteria outlined in this NOFA.

2. Content and Form of Application Submission

(i) Proposal Submission

A complete proposal submission consists of a minimum of two forms: The SF424 Mandatory Form and the Supplemental Form. The Supplemental Form must be placed in the attachments section of the SF424 Mandatory Form. Proposers must use the Supplemental Form designated for the LoNo Program and attach it to the submission in GRANTS.GOV to successfully complete the application process.

A proposal submission may contain additional supporting documentation as attachments. If an applicant elects to attach an additional proposal narrative, it must not exceed 10 numbered pages. Submissions must be presentable and use standard fonts, font sizing, and at least one-inch margins so the information can easily be read by the reviewers.

Within 48 hours after submitting an electronic application, the applicant should receive three email messages from grants.gov: (1) Confirmation of successful transmission to grants.gov, (2) confirmation of successful validation by grants.gov, and (3) confirmation of successful validation by FTA. If confirmations of successful validation are not received or a notice of failed validation or incomplete materials is received, the applicant must address the reason for the failed validation, as described in the email notice, and resubmit before the submission deadline. If making a resubmission for any reason, include all original attachments regardless of which attachments were updated and check the box on the supplemental form indicating this is a resubmission.

The FTA urges proposers to submit applications at least 72 hours prior to the due date to allow time to receive the validation messages and to correct any problems that may have caused a rejection notification. The FTA will not accept submissions after the stated deadline. Grants.gov scheduled maintenance and outage times are announced on the grants.gov Web site. Deadlines will not be extended due to scheduled Web site maintenance.

Proposers are encouraged to begin the process of registration on the grants.gov site well in advance of the submission deadline. Registration is a multi-step process, which may take several weeks to complete before an application can be submitted. Registered proposers may still be required to take steps to keep their registration up to date before submissions can be made successfully: (1) Registration in the System for Award Management (SAM) is renewed annually; and, (2) persons making submissions on behalf of the Authorized Organization Representative (AOR) must be authorized in grants.gov by the AOR to make submissions. Instructions on the grants.gov registration process are provided in the Appendix.

Applicants that submit multiple projects in one proposal must be sure to clearly define each project by completing a separate Supplemental Form for each project.

Information such as proposer name, Federal amount requested, local match amount, description of areas served, etc. may be requested in varying degrees of detail on both the SF424 form and Supplemental Form. Proposers must fill in all fields unless stated otherwise on the forms. The Supplemental Form template supports pasting copied text from other documents; applicants should verify that pasted text is fully captured on the Supplemental Form and has not been truncated by the character limits built into the form. Proposers should use both the “Check Package for Errors” and the “Validate Form” validation buttons on both forms to check all required fields on the forms, and ensure that the federal and local amounts specified are consistent.

(ii) Application Content

The SF424 Mandatory Form and the Supplemental Form will prompt applicants for the required information, including:

a. Applicant name;

b. Dun and Bradstreet (D&B) Data Universal Numbering System (DUNS) number if available. (Note: If selected, applicant will be required to provide DUNS number prior to award);

c. Key contact information (including contact name, address, email address, phone and fax number;

d. Description of services provided by the agency, including areas served;

e. Congressional district(s) where the deployment will take place;

f. A list of project team organizational members, by organization name and address;

g. A Letter of Commitment from each organizational member of the project team;

h. A description of the technical, legal and financial capacity of the applicant and partners to carry out the proposed project;

i. A description of the project and how it meets the program purpose, including any related projects funded under other sources;

j. A description of the transit bus model(s) proposed, including propulsion type, operating ranges, recharging/refueling requirements, and whether it qualifies as a zero-emission bus under this notice;

k. A listing of all greenhouse gas and criteria pollutants that may be emitted by the bus;

l. A description of required support facilities and infrastructure in existence, being procured through other programs, and being proposed through this program;

m. A description of the applicant's commitment to deploying a zero-emission or low emission fleet and how this project contributes to the agency's future plans.

n. A project management plan;

o. A line-item budget. The budget should be at least for the minimum 5 bus deployment and show the source of funds (requested under this NOFA, local share, other Federal (identify source)). For projects that propose to use LoNo Program funds solely for the incremental costs, the applicants' budget should detail the other sources of funding supporting the bus procurement. Budgets must also identify the amount that is specifically being requested for facilities and equipment;

p. If the project can be scaled, a scaling plan;

q. A project schedule outlining steps through completion, including significant milestones; and

r. The proposed deployment location(s).

3. Unique Entity Identifier and System for Award Management (SAM)

Registration in Brief

Registration can take as little as 3-5 business days, but since there could be unexpected steps or delays (for example, if you need to obtain an Employer Identification Number), FTA recommends allowing ample time, up to several weeks, for completion of all steps.

STEP 1: Obtain DUNS Number

Same day. If requested by phone (1-866-705-5711) DUNS is provided immediately. If your organization does not have one, you will need to go to the Dun & Bradstreet Web site at http://fedgov.dnb.com/webform to obtain the number. *Information for Foreign Registrants. *Webform requests take 1-2 business days.

STEP 2: Register With SAM

Three to five business days or up to two weeks. If you already have a TIN, your SAM registration will take 3-5 business days to process. If you are applying for an EIN please allow up to two weeks. Ensure that your organization is registered with the System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: TRACK AOR STATUS

At any time, you can track your AOR status by logging in with your username and password. Login as an Applicant (enter your username & password you obtained in Step (3) using the following link: applicant_profile.jsp.

4. Submission Dates and Times

Project proposals must be submitted electronically through GRANTS.GOV by November 23, 2015. Mail and fax submissions will not be accepted.

5. Funding Restrictions

Funds under this NOFA cannot be used to reimburse projects for otherwise eligible expenses incurred prior to FTA award of a Grant Agreement or Cooperative Agreement unless FTA has issued a “Letter of No Prejudice” for the project before the expenses are incurred.

6. Other Submission Requirements

If possible, FTA asks that proposals for bus projects be scalable upwards in increments of 1 or 2 transit buses so FTA can allocate all available funding under the LoNo Program, including FY 2016 funds if these become available and FTA elects to apply them to proposals received under this announcement. To help FTA allocate program funding, applicants are encouraged to identify how the proposed budgets are scalable. In addition, the FTA must allocate a minimum of $3.0 million for supporting facilities and related equipment. Therefore, applicants are encouraged to include a facilities and related equipment component to their proposal with a scalable budget for facilities and equipment. This will enable FTA to ensure the $3.0 million minimum can be met with a given portfolio of selected projects. Applicants should use the separate budget section on the Supplemental Form to itemize any portion of the proposed project that is specifically for related facilities and equipment.

All proposals should describe how the proposed project fits with long term goals of creating and deploying a zero-emission bus fleet.

E. Application Review

1. Selection Criteria

The FTA will use the following primary selection criteria when evaluating competing projects eligible under this program:

i. Bus Model

The bus model is a priority consideration of the LoNo program. The proposed bus model must receive at least a “Recommended” rating for a proposal to be recommended for funding.

a. The proposed bus model will be evaluated on the extent to which it has been successfully demonstrated in revenue service but is not yet widely deployed in transit agency fleets (meeting the purpose of the program) and the quality of the supporting evidence. Note that a bus model's transit revenue service demonstration need not take place in the United States. The FTA prefers bus models that have been successfully demonstrated in the United States, but the documented demands of the transit service and the quality of documentation of the bus model's performance is more important than whether the demonstration took place in the United States.

b. To meet the requirements of section 5312(d)(5)(F), priority consideration will be given to projects that support bus models with the greatest reduction in energy consumption and harmful emissions, including direct carbon emissions, when compared to other buses. A zero-emission bus project, for example, will receive priority consideration over a project that proposes buses that produce some level of emissions.

c. The proposed bus model will be evaluated by the status of its FTA Bus Testing report; if bus testing is not complete, proposals will be evaluated by the demonstrated commitment to complete transit bus testing prior to bus delivery.

d. The proposed bus model will be evaluated by whether there is sufficient documentation that it meets Buy-America domestic content requirements.

e. Zero-emission bus technology, while ready for wider deployment, is still developing in many respects. It is important that proposed bus models advance bus technology that will contribute to the further commercialization of zero-emission buses. Therefore proposed bus models will be evaluated by the extent to which they advance technology that can lead to better or less costly zero-emission buses.

Note: If no bus acquisition is being proposed (such as in a proposal for facilities and equipment only) all four Bus Model criteria (a-d) must still be addressed, describing the bus model that the proposed facilities and equipment would support.

ii. Project Effectiveness

The following four criteria address the likelihood the proposal will be effective in meeting critical considerations of the LoNo program:

a. The likelihood the project will result in, or support, the successful deployment of at least five largely-identical qualified transit buses operating in a single geographic location.

b. The projected emissions of the proposed transit bus model, including greenhouse gas and Criteria (EPA-regulated) emissions.

c. The extent to which the proposal leverages or expands a fleet of zero-emission transit buses.

d. The extent to which the proposal builds on past or current Federally-funded research efforts.

iii. Transit Agency and Community Commitment

Overcoming the challenges of deploying new technology requires leadership and commitment. The FTA seeks both prospective and existing operators of clean technology buses who can demonstrate the technical capacity and commitment required for sustained successful deployments. Transit agencies who are already industry leaders should emphasize and demonstrate their commitment to supporting and deploying the cleanest and most energy efficient buses available.

a. Proposals will be evaluated by the extent to which they demonstrate the transit agency's and the community's ongoing and long-term commitment to the deployment of a zero-emission bus fleet.

b. Transit agencies should highlight their technical capacity and commitment for applying the resources necessary for success, including how they will train the agency's workforce to support clean bus technology. In this regard, proposals will be evaluated by the extent to which they demonstrate the transit agency's consideration of, and commitment to, workforce development and training in support of zero-emission technology.

c. In order to maximize LoNo Program impact, FTA seeks to build on existing transit bus procurements, where possible. Therefore, the selection process will prioritize proposals that leverage other funds such that LoNo Program funds are used to cover only the incremental cost of procuring the proposed transit bus model above that of a more conventional higher-emission transit bus. Therefore proposals will be evaluated by the extent to which they offer a method to use program funds to cover only the incremental cost of the proposed bus model or facility over the cost of a transit bus or facility of a more widely deployed propulsion system.

iv. Safety

Safety considerations are critical in the deployment of new technology, to ensure public and worker safety and to protect public and private investment. Therefore proposals will be evaluated by the extent to which they demonstrate an understanding of, and make accommodation for, the safety considerations of the proposed bus technology.

v. Technical Capacity

To reduce project risk, the following criteria will assist FTA to determine the technical capacity of the project team:

a. The extent to which the proposal identifies by name a comprehensive project team, including transit agencies, bus manufacturers, and facilities providers, as well as systems integrators, and project management consultants.

The FTA encourages the use of experienced project management consultants on project teams especially if the transit agency involved lacks experience with the technology being proposed. In the event that an applicant or transit agency has a pending procurement or an open procurement for the same type of transit bus that qualifies under this NOFA and the agency wishes to expand the procurement through the LoNo Program, FTA recognizes that identifying all project team members could contradict or delay the procurement process. Therefore, identifying all project team members is not required. Applicants in this or similar situations are strongly encouraged to apply and in such case the lack of identified team members will not be penalized by FTA. Instead, the applicant should cite the procurement as evidence of ongoing interest and commitment. This clarification applies to procurements of vehicles that qualify under this NOFA.

b. The extent to which the proposal identifies and demonstrates the technical capacity and commitment of agencies, partners or teams with expertise in the sustained successful deployment of similar projects or propulsion technologies.

vi. Project Management

The applicant must demonstrate the capacity to carry out the project through a project management plan that shows:

a. The applicant is in a fundable status for the FTA grant award;

b. A viable project approach, budget, and schedule;

c. There are no outstanding legal, technical, or financial issues with the applicant that would make this a high-risk project;

d. The source(s) of local share and that the funds are available for prompt project implementation if selected; and,

e. The applicant has the ability and commitment to collect information and document the results of the project as part of an FTA project evaluation effort.

2. Review and Selection Process

A technical evaluation committee comprised of FTA staff and representatives of other collaborative government agencies will review project proposals against the described evaluation criteria. The technical evaluation committee reserves the right to evaluate proposals it receives and to seek clarification from any proposer about any statement that is made in a proposal that FTA finds ambiguous. The FTA may also request additional documentation or information to be considered during the evaluation process. After the evaluation of all eligible proposals, the technical evaluation committee will provide project recommendations to the FTA Administrator. The FTA Administrator will determine the final list of project selections, and the amount of funding for each project. To better evaluate technologies in a variety of conditions and locales, FTA may select a portfolio of geographically diverse projects.

F. Federal Award Administration

1. Federal Award Notice

Subsequent to an announcement by the FTA Administrator of the final project selections posted on the FTA Web site, FTA will publish a list of the selected projects, including Federal dollar amounts and recipients. Project recipients should contact their FTA Regional Offices for information about setting up grant agreements with FTA.

2. Award Administration

Successful proposals will be awarded through FTA's Transit Award Management System (TrAMS) as either Cooperative Agreements or Grant Agreements, at FTA's discretion. Proposals that expand existing procurements will likely be handled consistently with the agreement supporting the existing procurement. The appropriate FTA Regional Office in consultation with the FTA Research Office will manage project agreements.

Applicants must sign and submit current Certifications and Assurances before FTA may award funding under a Cooperative Agreement or Grant Agreement for a competitively selected project. If the applicant has already submitted the annual Certifications and Assurances for the fiscal year in which the award will be made in TrAMS, they do not need to be resubmitted.

To enhance the value of the portfolio of the projects to be implemented, FTA reserves the right to request an adjustment of the project scope and budget of any proposal selected for funding. Such adjustments shall not constitute a material alteration of any aspect of the proposal that influenced the proposal evaluation or decision to fund the project.

The FTA considers the competitive nature of LoNo Program proposal selection to constitute adequate competition for the purpose of satisfying third-party contracting requirements applicable to the procurement of proposed transit bus models by selected applicants. The FTA makes this determination with respect to the funding provided through this NOFA and any other Federal funds that may be involved in the selected LoNo bus acquisition proposal.

Further, FTA reserves the right to name any or all proposed project team members as a “Key Party” and to make any award conditional upon the participation of the “Key Party.” A “Key Party” is essential to the project as approved by FTA and, is, therefore, eligible for a noncompetitive award by the project sponsor to provide the goods or services described in the proposal. Participation by members of the “Key Party” on a selected project may not later be substituted without FTA's approval.

3. Administrative and National Policy Requirements

Except as otherwise provided in this NOFA, grants or cooperative agreements are subject to the requirements of 49 U.S.C. 5307 as described in the latest FTA Circular 9030.1 for the Urbanized Area Formula Program. Additionally, under the LoNo Program FTA may, at its discretion, consider exceptions to assist in the commercialization of zero-emission bus technology, such as modifying spare ratio or useful life requirements. The FTA will not consider any requests for bus testing waivers.

All transit buses and related infrastructure and facilities under the LoNo Program must be Buy-America compliant pursuant to 49 U.S.C. 5323(j) and its implementing regulations. The FTA will not consider any Buy America waivers under the LoNo Program.

4. Reporting

The legislation that created the LoNo Program requires FTA to evaluate all projects in the program. Therefore, the applicant must agree to participate and cooperate with FTA project evaluation activity. Evaluation activity that FTA expects applicants to perform includes collecting and providing raw, unaltered vehicle performance and maintenance data, meeting with FTA evaluators or FTA's evaluation representative on a quarterly basis, and providing evaluators access to the project site and to project team members, when requested by FTA. The FTA Research Office is sensitive to the importance of proprietary information and has a successful record of accommodating those concerns.

G. Federal Awarding Agency Contacts

For further information concerning this notice please contact the (LoNo) Program staff via email at sean.ricketson@dot.gov, or call Sean Ricketson at 202-366-6678. A TDD is available for individuals who are deaf or hard of hearing at 1-800-877-8339. In addition, DOT will post answers to questions and requests for clarifications on DOT's Web site at www.fta.dot.gov. To ensure applicants receive accurate information about eligibility or the program, the applicant is encouraged to contact DOT directly, rather than through intermediaries or third parties, with questions. DOT staff may also conduct briefings on the LoNo program discretionary grants selection and award process upon request.

H. Other Information

The applicant assures that it will comply with all applicable Federal statutes, regulations, executive orders, FTA Circulars, and other Federal administrative requirements in carrying out any project supported by the FTA agreement. The applicant acknowledges that it is under a continuing obligation to comply with the terms and conditions of the agreement executed with FTA for its project. The applicant understands that Federal laws, regulations, policies, and administrative practices might be modified from time to time and may affect the implementation of the project. The applicant agrees that the most recent Federal requirements will apply to the project, unless FTA issues a written determination otherwise.

Matthew J. Welbes,
Executive Director.

[FR Doc. 2015-24231 Filed 9-23-15; 8:45 am]

BILLING CODE P